DEPARTMENT OF HEALTH AND HUMAN SERVICES

Centers for Medicare & Medicaid Services

[CMS-9889-N]

Charter Renewal for Advisory Committee on Ground Ambulance and Patient Billing (GAPB)—November 16, 2023

AGENCY: Centers for Medicare & Medicaid Services (CMS), Department of Health and Human Services (HHS).

ACTION: Notice.

SUMMARY: The No Surprises Act, enacted as part of the Consolidated Appropriations Act, 2021, requires the Secretary of Health and Human Services (HHS), the Secretary of Labor, and the Secretary of the Treasury (the Secretaries) to establish and convene an advisory committee for the purpose of reviewing options to improve the disclosure of charges and fees for ground ambulance services, better inform consumers of insurance options for such services, and protect consumers from balance billing (the “GAPB Advisory Committee” or the “Committee”). The Secretaries established the GAPB Advisory Committee on November 16, 2021 with a standard 2-year expiration period ending November 16, 2023. In accordance with the Federal Advisory Committee Act (FACA), HHS is hereby giving notice that the charter for the Advisory Committee on Ground Ambulance and Patient Billing (GAPB) was renewed effective November 16, 2023.

DATES: The charter for the Advisory Committee on GAPB was renewed is November 16, 2023.

ADDRESSES: Inquiries about the Committee can be mailed to Center for Consumer Information & Insurance Oversight, Centers for Medicare & Medicaid Services, 7500 Security Boulevard, Mail Stop WB-22-75, Baltimore, MD 21244-8016.

FOR FURTHER INFORMATION CONTACT:

Shaheen Halim, CMS, by phone (410) 786-0641 or via email at gapbadvisorycommittee@cms.hhs.gov.

Press inquiries may be submitted by phone at (202) 690-6145 or via email at press@cms.hhs.gov.

SUPPLEMENTARY INFORMATION: Section 117(a) of the No Surprises Act, enacted as part of the Consolidated Appropriations Act, 2021, div. BB, tit. I, Public Law 116-260 (Dec. 27, 2020), requires the Secretaries of Labor, HHS, and the Treasury to establish and convene an advisory committee for the purpose of reviewing options to improve the disclosure of charges and fees for ground ambulance services, better inform consumers of insurance options for such services, and protect consumers from balance billing. The GAPB Advisory Committee is governed by the provisions of the Federal Advisory Committee Act (FACA), Public Law 92-463 (Oct. 6, 1972), as amended, 5 U.S.C. App. 2.

The GAPB Advisory Committee first convened in 2023. It will make recommendations with respect to the disclosure of charges and fees for ground ambulance services and insurance coverage, consumer protection and enforcement authorities of the Departments of Labor, Health and Human Services, and the Treasury (the Departments) and relevant States, and the prevention of balance billing to consumers. The recommendations shall address options, best practices, and identified standards to prevent instances of balance billing; steps that can be taken by State legislatures, State insurance regulators, State attorneys general, and other State officials as appropriate, consistent with current legal authorities regarding consumer protection; and legislative options for Congress to prevent balance billing. The purpose of renewing the GAPB Advisory Committee is to provide the Committee with more time to review relevant information, review options and best practices, and consider the recommendations that it has been charged with making. A copy of the charter and other information regarding the GAPB Advisory Committee's activity can be found at: https://www.cms.gov/medicare/regulations-guidance/advisory-committees/advisory-committee-ground-ambulance-and-patient-billing-gapb. The Administrator of CMS, Chiquita Brooks-LaSure, having reviewed and approved this document, authorizes Vanessa Garcia, who is the Federal Register Liaison, to electronically sign this document for purposes of publication in the Federal Register.

Dated: December 18, 2023.
Vanessa Garcia,
Federal Register Liaison, Centers for Medicare & Medicaid Services.

[FR Doc. 2023-28128 Filed 12-20-23; 8:45 am]

BILLING CODE 4120-01-P